ENVIRONMENTAL PROTECTION AGENCY

[ER-FRL-9027-9]

Environmental Impact Statements; Notice of Availability

Responsible Agency: Office of Federal Activities, General Information (202) 564-7146 or http://www.epa.gov/nepa.

Weekly receipt of Environmental Impact Statements (EISs)

Filed 06/27/2016 Through 07/01/2016

Pursuant to 40 CFR 1506.9.

Notice

Section 309(a) of the Clean Air Act requires that EPA make public its comments on EISs issued by other Federal agencies. EPA's comment letters on EISs are available at: http://www.epa.gov/compliance/nepa/eisdata.html.

EIS No. 20160148, Final, USACE, NC, Figure Eight Island Shoreline Management Project, Review Period Ends: 08/08/2016, Contact: Mickey Sugg 910-251-4811.

EIS No. 20160149, Final, BIA, FL, Seminole Tribe of Florida Fee to Trust, Review Period Ends: 08/08/2016, Contact: Chester McGhee 615-564-6830.

EIS No. 20160150, Final Supplement, NIGC, CA, Jamul Indian Village, Review Period Ends: 08/08/2016, Contact: Andrew Mendoza 202-634-0012.

EIS No. 20160151, Final, BLM, CO, Bull Mountain Unit Master Development Plan, Review Period Ends: 08/08/2016, Contact: Gina Jones 970-240-5300.

EIS No. 20160152, Draft, USFS, NM, Santa Fe National Forest Geothermal Leasing, Comment Period Ends:08/22/2016, Contact: Larry Gore 575-289-3264.

Amended Notices

EIS No. 20160128, Final, USACE, NC, Morehead City Harbor Integrated Dredged Material Management Plan, Review Period Ends: 08/11/2016, Contact: Jennifer Owens 910-251-4757.

Revision to FR Notice Published06/10/2016; Extending Review Period from 07/11/2016 to 08/11/2016.

Dated: July 1, 2016.
Dawn Roberts,
Management Analyst, NEPA Compliance Division, Office of Federal Activities.

[FR Doc. 2016-16310 Filed 7-7-16; 8:45 am]

BILLING CODE 6560-50-P